DEPARTMENT OF HEALTH AND HUMAN SERVICES

Indian Health Service

Proposed Information Collection: Final Rule To Implement Title V of the Tribal Self-Governance Amendments of 2000; Request for Public Comment: 30-Day Notice

AGENCY: Indian Health Service, HHS.

ACTION: Request for Public Comment: 30-day Proposed Information Collection: Final Rule to Implement Title V of the Tribal Self-Governance Amendments of 2000.

SUMMARY: The Indian Health Service (IHS), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. As required by section 3507(a)(1)(D) of the Act, the proposed information collection has been submitted to the Office of Management and Budget (OMB) for review and approval. The IHS received no comments in response to the 60-day Federal Register notice (70 FR 44663) published on August 3, 2005. The purpose of this notice is to allow an additional 30 days for public comment to be submitted directly to OMB.

Proposed Collection: Title: 0917-0026, “Final Rule to Implement Title V of the Tribal Self-Governance Amendments of 2000”. Type of Information Collection Request: Extension, without revision, of currently approved information collection, 0917-0026, “Final Rule to Implement Title V of the Tribal Self-Governance Amendments of 2000”. Form Number: None. Forms: None. Need and Use of Information Collection: The “Tribal Self-Governance Amendments of 2000”, Public Law 106-206 (the act), repeals Title III of the Indian Self-Determination Act, Public Law 93-638, as amended, (ISDA) and enacts Title V that established a permanent Self-Governance program within DHHS. Thus Indian and Alaska Native Tribes are now able to compact for the operation, control, and redesign of various IHS activities on a permanent basis. The final rule has been negotiated among representatives of Self-Governance and non-Self-Governance Tribes and the DHHS. The final rule included provision governing how DHHS/IHS carries out its responsibility to Indian Tribes under the Act and how Indian Tribes carry out their responsibilities under the Act. As required by section 517(b) of the Act, the Department has developed this final rule with active Tribal participation of Indian Tribes, inter-Tribal consortia, Tribal organizations and individual Tribal members, using the guidance of the Negotiated Rulemaking Act, 5 U.S.C. 561 et seq. Health status reporting requirements will be negotiated on an individual Tribal basis and included in individual compacts of funding agreements. Response to the data collection continues to be voluntary; however, submission of the data is essential to participation in the Tribal Self-Governance process. Self-Governance Tribes have the option of participating in the Tribal Self-Governance process. Self-Governance Tribes have the option of participating in a voluntary national uniform data collection effort with the IHS. The department is seeking continued OMB approval of the collection of information identified in the following sections of the regulations: Subpart C-Selection of Tribes for Participation in Self-Governance, Subpart D and E-Compact and Funding Agreement, Subpart N-Construction Projects, and Subpart P-Appeals. Affected Public: Individual Tribes. Type of Respondents: Tribal Representatives.

The table below provides the estimated burden hours for this information collection:

Table.—Estimated Annual Burden Hours
CFR section | Estimated number of respondents | Responses per respondent | Average burden hour per response | Total annual burden hours
Subpart C—Eligibility criteria | 50 | 1 | 10.0 | 500
Subpart D—Self-governance compact and Subpart E—Funding agreement | 50 | 1 | 34.0 | 1,700
Subpart N—Construction | 30 | 1 | 40 | 1,200
Subpart P—Appeals | 8 | 1 | 40 | 320
Total Annual Burden |  |  |  | 3,720

There are no Capital Costs, Operating Costs and/or Maintenance Costs to report.

Request for Comments: Your written comments and/or suggestions are invited on one or more of the following points: (a) Whether the information collection activity is necessary to carry out an agency function; (b) whether the agency processes the information collected in a useful and timely function; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, directly to: Office of Management and Budget, Office of Regulatory Affairs, New Executive Office Building, Room 10235, Washington, DC 20503, Attention: Allison Eydt, Desk Officer for IHS.

Send requests for more information on the proposed collection or to obtain a copy of the data collection instrument(s) and instructions to: Mrs. Christina Rouleau, IHS Reports Clearance Officer, 801 Thompson Avenue, TMP Suite 450, Rockville, MD 20852-1601, call non-toll free (301) 443-5938, send via facsimile to (301) 443-2316, or send your e-mail requests, comments, and return address to: crouleau@hqe.ihs.gov.

For Further Information directly pertaining to the proposed data collection instrument and/or the process, please contact Tena Larney, Reyes Building, 801 Thompson Avenue, Suite 200, Rockville, MD 20852-1627, Telephone (301) 443-7821.

Comment Due Date: You comments regarding this information collection are best assured of having their full effect if received within 30 days of the date of this publication.

Dated: October 4, 2005.
Robert G. McSwain,
Deputy Director, Indian Health Service.

[FR Doc. 05-20330 Filed 10-7-05; 8:45 am]

BILLING CODE 4165-16-M